DEPARTMENT OF DEFENSE

Defense Acquisition Regulations System

48 CFR Chapter 2

[Docket No. DARS-2014-0012]

Review of Statutory and Regulatory Requirements

AGENCY: DARS, Department of Defense.

ACTION: Notice of extension of public comment period.

SUMMARY: The Defense Procurement and Acquisition Policy (DPAP) gives notice that the comment period announced in the February 12, 2014 (79 FR 8402) notice of request for public comments on DPAP's review of statutory and regulatory requirements, will be extended an additional 40 days until April 23, 2014. DPAP is currently conducting an assessment to identify impacts experienced by industry resulting from contracting statutes.

DATES: Submit written comments to the address shown below on or before April 23, 2014. Comments received will be considered by DoD in the formation of a recommendation to the Secretary of Defense if a revision to the definition is necessary and appropriate.

ADDRESSES: Submit comments to: Mr. Michael Canales, Room 5E621, 3060 Defense Pentagon, Washington, DC 20301-3060. Comments may also be submitted by fax at (703) 614-1254, or by email at michael.j.canales4.civ@mail.mil.

FOR FURTHER INFORMATION CONTACT: Mr. Michael Canales, DPAP/CPIC, by telephone at (703) 695-8571, or by email at michael.j.canales4.civ@mail.mil.

SUPPLEMENTARY INFORMATION: The purpose of the assessment is to support an internal Department of Defense (DoD) effort to reduce compliance impacts that do not achieve the benefits intended by contracting statutes. As part of this assessment, DPAP would like to receive the views of interested parties identifying particular impacts associated with specific contracting statutes. There is an extensive body of law and regulation that govern the Department's business. We are seeking to better understand the impact experienced by industry resulting from requirements based on statute. Our initial review identified approximately 400 DFARS requirements based solely on statute. The Director, DPAP, is soliciting public input to identify particular impacts associated with specific contracting statutes, with reference to—

• Particular impacts associated with specific contracting statutes;

• Why the identified impact does not achieve the intended benefit of the identified legislation, or why the intended benefit is not helpful to the Department; and

• Any recommendations for alternative approaches to achieve the intended benefit of the identified legislation.

We are also interested in candidate DFARS and component supplements requirements that, although not based in statute, warrant similar consideration.

Manuel Quinones,
Editor, Defense Acquisition Regulations System.

[FR Doc. 2014-04067 Filed 2-24-14; 8:45 am]

BILLING CODE 5001-06-P